DEPARTMENT OF DEFENSE

Office of the Secretary

Termination of the National Commission on the Future of the Army

AGENCY: Department of Defense.

ACTION: Termination of Federal Advisory Committee.

SUMMARY: The Department of Defense is publishing this notice to announce that it is terminating the National Commission on the Future of the Army, effective April 28, 2016.

FOR FURTHER INFORMATION CONTACT: Jim Freeman, Advisory Committee Management Officer for the Department of Defense, 703-692-5952.

SUPPLEMENTARY INFORMATION: Pursuant to Section 17062 of the Carl Levin and Howard P. “Buck” McKeon National Defense Authorization Act for Fiscal Year 2015 (Pub. L. 113-291), as amended by Section 1061 of the National Defense Authorization Act for Fiscal Year 2016 (Pub. L. 114-92), the Department of Defense terminated the National Commission on the Future of the Army on April 28, 2016.

Dated: May 19, 2016.
Aaron Siegel,
Alternate OSD Federal Register, Liaison Officer, Department of Defense.

[FR Doc. 2016-12275 Filed 5-24-16; 8:45 am]

BILLING CODE 5001-06-P.